DEPARTMENT OF THE INTERIOR

National Park Service

[NPS-WASO-NRNHL-11584; 2200-3200-665]

National Register of Historic Places; Notification of Pending Nominations and Related Actions

Nominations for the following properties being considered for listing or related actions in the National Register were received by the National Park Service before October 20, 2012. Pursuant to § 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service,1201 Eye St. NW., 8th Floor, Washington, DC 20005; or by fax, 202-371-6447. Written or faxed comments should be submitted by December 4, 2012. Before including your address, phone number, email address, or other personal identifying information in your comment, you should be aware that your entire comment—including your personal identifying information—may be made publicly available at any time. While you can ask us in your comment to withhold your personal identifying information from public review, we cannot guarantee that we will be able to do so.

Dated: October 23, 2012.
Alexandra Lord,
Acting Chief, National Register of Historic Places/National Historic Landmarks Program.

ALABAMA

Mobile County

Africatown Historic District, Bounded by Jakes Ln., Paper Mill, & Warren Rds., Chin, & Railroad Sts., Mobile, 12000990

COLORADO

Jefferson County

Staunton Ranch Rural Historic Landscape, 11559 Upper Ranch Dr., Pine, 12000991

FLORIDA

Broward County

Council Oak Tree Site on the Hollywood Seminole Indian Reservation, Address Restricted, Hollywood, 12000992

MARYLAND

Prince George's County

Old Town College Park, (Historic Residential Suburbs in the United States, 1830-1960 MPS), Roughly bounded by Yale & Columbia Aves., Calvert Rd., & UM Campus, College Park, 12000993

MASSACHUSETTS

Hampshire County

Northampton Veterans Administration Hospital Historic District, (United States Second Generation Veterans Hospitals MPS), 421 N. Main St., Northampton, 12000994

MONTANA

Flathead County

Conrad, C.E., Memorial Cemetery, 641 Conrad Dr., Kalispell, 12000995

NEW YORK

Erie County

Elmwood Historic District—West, Roughly Ashland, Auburn, Bird, Claremont, Elmwood, Forest, Highland, Hodge, Lafayette, Lexington, Norwood Aves., Buffalo, 12000996

Hamburg Main Street Historic District, 11 through 235 Main St., Hamburg, 12000997

Niagara County

Taylor, William, House, 97 S. Main St., Middleport, 12000998

TEXAS

Comanche County

Cunningham, Captain James & Susannah, Homestead, 19601 TX 16 S., Comanche, 12000999

Harris County

San Jacinto Senior High School, 1300 Holman St., Houston, 12001000

Hill County

Nolan River Bridge 303-4 of the Gulf, Colorado and Santa Fe Railway, Cty. Rd. 1127 at Nolan R., Blum, 12001001

Jack County

Jack County Courthouse, 100 N. Main St., Jacksboro, 12001002

Potter County

Fisk Medical Arts Building, 724 S. Polk St., Amarillo, 12001003

Tarrant County

Farmers and Mechanics National Bank, 714 Main St., Fort Worth, 12001004

Van Zandt Cottage, 2900 Crestline Rd., Fort Worth, 12001005

[FR Doc. 2012-27991 Filed 11-16-12; 8:45 am]

BILLING CODE 4312-51-P